Title 3—

The President

Memorandum of October 28, 2013

Delegation of Functions Under Sections 1261(b) and 1262(a) of Public Law 112-239

Memorandum for the Secretary of State [and] the Secretary of Commerce

By the authority vested in me as President by the Constitution and the laws of the United States, including section 301 of title 3, United States Code, I hereby delegate to the Secretary of State the functions of the President under section 1261(b) and to the Secretary of Commerce the functions of the President under section 1262(a) of the National Defense Authorization Act for Fiscal Year 2013, Public Law 112-239.

The Secretary of State shall consult, as appropriate, the heads of other executive departments and agencies in the performance of his responsibilities under this memorandum.

The Secretary of State is authorized and directed to publish this memorandum in the Federal Register.

THE WHITE HOUSE,

Washington, October 28, 2013.

[FR Doc. 2013-28857

Filed 11-27-13; 11:15 am]

Billing code 4710-10